DEPARTMENT OF COMMERCE

International Trade Administration

A-570-899

Notice of Postponement of Preliminary Determination of Antidumping Duty Investigation: Certain Artist Canvas from the People's Republic of China

AGENCY: Import Administration, International Trade Administration, Department of Commerce.

EFFECTIVE DATE: August 19, 2005.

FOR FURTHER INFORMATION CONTACT: Michael Holton or Robert Bolling, AD/CVD Operations, Office 8, Import Administration, International Trade Administration, U.S. Department of Commerce, 14th Street and Constitution Avenue, NW, Washington, DC 20230; telephone: (202) 482-1324 or (202) 482-3434, respectively.

SUPPLEMENTARY INFORMATION:

Postponement of Preliminary Determination

On April 28, 2005, the Department of Commerce (“Department”) published the initiation of the antidumping duty investigation of imports of certain artist canvas from the People's Republic of China. See Initiation of Antidumping Duty Investigation: Certain Artist Canvas from the People's Republic of China, 70 FR 21996 (April 28, 2005). The notice of initiation stated that we would make our preliminary determination for this antidumping duty investigation no later than 140 days after the date of issuance of the initiation. Currently, the preliminary determination in this investigation is due September 8, 2005.

On August 11, 2005, Tara Materials Inc. (“Petitioner”) made a timely request pursuant to 19 CFR §351.205(e) for a 29-day postponement of the preliminary determination, or until October 7, 2005. Petitioner requested postponement of the preliminary determination because it believes additional time is necessary to allow Petitioner to review the responses to the supplemental questionnaires and submit comments to the Department, and also to allow the Department time to analyze thoroughly the respondents' data and to seek additional information, if necessary.

Under section 733(c)(1)(A) of the Tariff Act of 1930, as amended (“the Act”), if Petitioner makes a timely request for a postponement of the preliminary determination, the Department may postpone the preliminary determination under subsection (b)(1) until no later than the 190th day after the initiation of the investigation.

Therefore, because there are no compelling reasons to deny Petitioner's request, we are postponing the preliminary determination under section 733(c)(1)(A) of the Act by 29 days to October 7, 2005. The deadline for the final determination will continue to be 75 days after the date of the preliminary determination, unless extended.

This notice is issued and published pursuant to sections 733(c)(2) of the Act and 19 CFR 357.205(f)(i).

Dated: August 15, 2005.
Ronald K. Lorentzen,
Acting Assistant Secretary for Import Administration.

[FR Doc. E5-4541 Filed 8-18-05; 8:45 am]

BILLING CODE 3510-DS-S